NUCLEAR REGULATORY COMMISSION

[Docket No. 50-309]

Environmental Assessment and Finding of No Significant Impact Related to Maine Yankee Atomic Power Company's Request for Exemption From the Recordkeeping Requirements of 10 CFR 50.59(D)(3); 10 CFR Part 50, Appendix A; 10 CFR Part 50, Appendix B

I. Introduction

The U.S. Nuclear Regulatory Commission (NRC) is considering granting an exemption from the Recordkeeping requirements of Title 10 of the Code of Federal Regulations (10 CFR) 50.59(d)(3); 10 CFR Part 50, Appendix A; 10 CFR Part 50, Appendix B, for the Maine Yankee Plant as requested by Maine Yankee Atomic Power Company (MY) on July 14, 2003. An environmental assessment (EA) was performed by the NRC staff in support of its review of the exemption request.

II. Environmental Assessment

Introduction

MY is the licensee and holder of Facility Operating License No. DPR-36 for the Maine Yankee Plant, a permanently shut down decommissioning nuclear plant. On August 7, 1997, MY notified NRC that operations had permanently ceased and that fuel had been permanently removed from the reactor. MY submitted its final revised License Termination Plan (LTP) in October 2002, which the NRC approved on February 28, 2003. Decommissioning of the MY facility is approximately 80% complete. The nuclear reactor and all associated systems and components necessary for the safe generation of power have been removed from the facility and disposed of or sold off-site. In addition, the structures necessary for safe power generation are either demolished or in an advanced state of demolition. Safety-related structures, systems and components (SSCs) remaining total less than five, all associated with the spent fuel pool. Removal of fuel from the pool is approximately half complete with all fuel scheduled to be removed in early 2004.

Purpose and Need for Proposed Action

The requested exemption and application of the exemption will eliminate an unwarranted financial burden on ratepayers associated with the storage of a large volume of hardcopy records.

The Proposed Action

The proposed action would allow the disposal of records, prior to termination of MY License No. DPR-36, when: (1) The nuclear power unit and associated support systems no longer exist for SSCs associated with safe power generation; or (2) spent nuclear fuel has been completely transferred from the spent fuel pool for SSCs associated with the safe storage of fuel in the spent fuel pool.

MY is not requesting any exemption associated with recordkeeping requirements for storage of spent fuel at its independent spent fuel storage installation under 10 CFR 50 or the general license requirements of 10 CFR 72.

Alternatives to Proposed Action

No action. Under this alternative MY would continue to store the records in question until license termination.

The Affected Environment and Environmental Impacts

None. The proposed action is purely administrative in nature and will have no effect on the environment.

Agencies and Persons Contacted

None.

Conclusions

NRC has determined that the proposed action will have no significant effect on the quality of the human environment.

III. Finding of No Significant Impact

Based on this review, the NRC staff has concluded that there are no significant impacts on the quality of the human environment. Accordingly, the staff has determined that preparation of an Environmental Impact Statement is not warranted, and a Finding of No Significant Impact is appropriate.

IV. Further Information

The licensee's request for the proposed action (ADAMS Accession No: ML032040178) and other related documents to this proposed action are available for public inspection and copying for a fee at NRC's Public Document Room at NRC Headquarters, One White Flint North, 11555 Rockville Pike, Rockville, Maryland 20852. These documents are available for public review through ADAMS, the NRC's electronic reading room, at: http://www.nrc.gov/reading-rm/adams.html.

Any questions with respect to this action should be referred to John Buckley, Decommissioning Branch, Mailstop T-7F27, Division of Waste Management, Office of Nuclear Material Safety and Safeguards, U.S. Nuclear Regulatory Commission, Washington, DC 20555-0001. Telephone: (301) 415-6607.

Dated at Rockville, Maryland, this 5th day of November, 2003.
For the Nuclear Regulatory Commission.
Claudia M. Craig,
Acting Chief, Decommissioning Branch, Division of Waste Management, Office of Nuclear Material Safety and Safeguards.

[FR Doc. 03-28748 Filed 11-17-03; 8:45 am]

BILLING CODE 7590-01-P